SOCIAL SECURITY ADMINISTRATION

Agency Information Collection Activities: Proposed Request and Comment Request.

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Information Collections Conducted by State Disability Determination Services (DDSs) on Behalf of SSA—20 CFR 404.1503a, 404.1512, 404.1513404.1512, 404.1513, 404.1514 404.1517, 404.1519; 20 CFR subpart Q, 404.1613, 404.1614, 404.1624; 20 CFR subpart I, 416.903a, 416.912, 416.913, 416.914, 416.917, 416.919 and 20 CFR subpart J, 416.1013, 416.1024, 416.1014—0960-0555. The State Disability Determination Services (DDSs) collect certain information that SSA needs to correctly administer its disability program. This information is divided into the Consultative Examination (CE) and Medical Evidence of Record (MER) categories. There are three types of CE evidence: (a) medical evidence from CE providers, in which DDSs use CE medical evidence to make disability determinations when the claimant's own medical sources cannot or will not provide the required information, (b) CE claimant completion of a response form where claimants indicate if they intend to keep their CE appointment, and (c) CE claimant completion of a form indicating whether they want the CE report to be sent to their doctor. In the MER category, the DDSs use MER information to determine a person's physical and/or mental status prior to making a disability determination. Please note that for the first time, some of the information included in this collection can be submitted electronically through the new Electronic Records Express (ERE) systems. The respondents are medical providers, other sources of MER, and disability claimants.

Type of Collection: Revision to an existing OMB-approved collection. CE:

a. Medical Evidence from CE Providers

| Number of respondents | Frequency of response | Average burden per response (minutes) | Estimated annual burden (hours)
Paper Submissions | 1,215,000 | 1 | 30 | 607,500
ERE Submissions | 285,000 | 1 | 15 | 71,250
Totals | 1,500,000 |  |  | 678,750

b. Claimants re Appointment Letter:

Number of Respondents: 750,000.

Frequency of Response: 1.

Average Burden Per Response: 5 minutes.

Estimated Annual Burden: 62,500 hours.

c. Claimants re Report to Medical Provider:

Number of Respondents: 1,500,000.

Frequency of Response: 1.

Average Burden Per Response: 5 minutes.

Estimated Annual Burden: 125,000 hours.

MER
| Number of respondents | Frequency of response | Average burden per response (minutes) | Estimated annual burden (hours)
Paper Submissions | 2,480,800 | 1 | 15 | 620,200
C/D (Connect Direct, commercially available software used for electronically transferring medical records) | 218,400 | 1 | 15 | 54,600
ERE | 100,800 |  | 7 | 11,760
Totals | 2,800,000 |  |  | 686,560

2. Response to Notice of Revised Determination—20 CFR 404.913-.914 and 992(b), 416.1413-.1414 and 1492—0960-0347. Form SSA-765 is used by claimants to request a disability hearing and/or to submit additional evidence before a revised reconsideration determination is issued. The respondents are claimants who file for a disability hearing in response to a notice of revised determination for disability insurance and/or Supplemental Security Income (SSI) under titles II (Old-Age, Survivors and Disability Insurance) and XVI (SSI).

Type of Request: Extension of an OMB-approved information collection.

Number of Respondents: 1,925.

Frequency of Response: 1.

Average Burden Per Response: 30 minutes.

Estimated Annual Burden: 963 hours.

3. Questionnaire for Children Claiming SSI Benefits—0960-0499. The information collected on form SSA-3881-BK is used by SSA to evaluate disability in children who are appealing an unfavorable disability decision or whose continuing disability is being reviewed. The form requests the names and addresses of non-medical sources such as schools, counselors, agencies, organizations or therapists who would have information about a child's functioning. The respondents are children or their representatives who are appealing an unfavorable decision on their claim or whose continuing disability is being reviewed.

Type of Request: Extension of OMB-approved collection.

Number of Respondents: 253,000.

Frequency of Response: 1.

Average Burden Per Response: 30 minutes.

Estimated Annual Burden: 126,500 hours.

4. Claimant Statement about Loan of Food or Shelter; Statement about Food or Shelter Provided to Another—20 CFR 416.1130-416.1148—0960-0529. Forms SSA-5062 and SSA-L5063 are used to obtain statements about food and/or shelter provided to an SSI claimant or recipient. SSA uses this information to determine whether food and/or shelter are bona fide loans or should be counted as income for SSI purposes. This determination can affect eligibility for SSI and the amount of SSI benefits payable. The respondents are claimants/recipients for SSI benefits and individuals that provide loans of food and/or shelter to SSI claimants/recipients.

Type of Request.—Revision of an OMB-approved information collection.
Collections | Number of respondents | Frequency of response | Average burden per response (minute) | Estimated annual burden (hours)
SSA-5062 | 65,540 | 1 | 10 | 10,923
SSA-L5063 | 65,540 | 1 | 10 | 10,923
Totals | 131,080 |  |  | 21,846

5. Internet Direct Deposit Application—31 CFR 210—0960-0634. SSA uses Direct Deposit/Electronic Funds Transfer (DD/EFT) enrollment information received from beneficiaries to facilitate DD/EFT of their Social Security benefits with a financial institution. Respondents are Social Security beneficiaries who use the Internet to enroll in DD/EFT.

Type of Request: Extension of an OMB-approved information collection.

Number of Respondents: 80,000.

Frequency of Response: 1.

Average Burden Per Response: 10 minutes.

Estimated Annual Burden: 13,333 hours.

6. Medical Permit Parking Application—41 CFR 101-20.104-2—0960-0624. SSA issues medical parking assignments at SSA-owned and -leased facilities to individuals who have a medical condition which meets the criteria for medical parking. In order to issue a medical parking permit, SSA must obtain medical evidence from the applicant's physician. Form SSA-3192-F4 is used to collect this information. SSA then uses the information to determine whether the individual qualifies for a medical parking permit and whether or not to issue the permit. The respondents are physicians of applicants for medical parking permits.

Type of Request: Extension of an OMB-approved information collection.

Number of Respondents: 800.

Frequency of Response: 1.

Average Burden Per Response: 60 minutes.

Estimated Annual Burden: 800 hours.

7. Reporting Changes that Affect Your Social Security Payment—20 CFR 404.301-305, .310-311, .330-.333, .335-.341, .350-.352, .370-.371, .401-.402, .408(a), .421-.425, .428-.430, .434-.437, .439-.441, .446-.447, .450-.455, .468—0960-0073. SSA uses the information collected on Form SSA-1425 to determine continuing entitlement to Title II Social Security benefits and to determine the proper benefit amount. The respondents are Social Security beneficiaries receiving SSA retirement, disability or survivor's auxiliary benefits who need to report an event that could affect payments.

Type of Request: Extension of an OMB-approved information collection.

Number of Respondents: 70,000.

Frequency of Response: 1.

Average Burden Per Response: 5 minutes.

Estimated Annual Burden: 5,833 hours.

8. Disability Hearing Officer's Decision—20 CFR 404.917 and 416.1417—0960-0441. The Social Security Act requires that SSA provide an evidentiary hearing at the reconsideration level of appeal for claimants who have received an initial or revised determination that a disability did not exist or has ceased. Based on the hearing, the disability hearing officer (DHO) completes form SSA-1207 and all applicable supplementary forms (which vary depending on the type of claim). The DHO uses the information in documenting and preparing the disability decision. The form will aid the DHO in addressing the crucial elements of the case in a sequential and logical fashion. The respondents are DHOs in the State Disability Determination Services (DDS).

Type of Request: Extension of an OMB-approved information collection.

Number of Respondents: 65,000.

Frequency of Response: 1.

Average Burden Per Response: 45 minutes.

Estimated Annual Burden: 48,750 hours.

The information collections listed below have been submitted to OMB for clearance. Your comments on the information collections would be most useful if received by OMB and SSA within 30 days from the date of this publication. You can obtain a copy of the OMB clearance packages by calling the SSA Reports Clearance Officer at 410-965-0454, or by writing to the address listed above.

1. Non-Attorney Representative Demonstration Project Application—0960-0669. Section 303 of the Social Security Protection Act of 2004 (SSPA) provides for a 5-year demonstration project to be conducted by SSA under which the direct payment of SSA-approved fees is extended to certain non-attorney claimant representatives. Under the SSPA, to be eligible for direct payment of fees, a non-attorney representative must fulfill the following statutory requirements: (1) Possess a bachelors degree or have equivalent qualifications derived from training and work experience; (2) pass an examination that tests knowledge of the relevant provisions of the Social Security Act; (3) secure professional liability insurance or equivalent insurance; (4) pass a criminal background check (information on these 4 requirements will be collected during initial reporting); (5) demonstrate completion of relevant continuing education courses (this information will be collected under the Continuing Education (CE) reporting), and (6) complete an annual Affirmations Worksheet to verify the participant's continued eligibility to participate in the demonstration project. SSA collects this information through the services of a private contractor and uses it to determine if a non-attorney representative has met and continues to meet the statutory requirements to be eligible for direct payment of fees for his or her claimant representation services. The respondents are non-attorney representatives who apply for direct payment of fees.

Type of Request: Revision of an existing information collection.

Application Reporting

Number of Respondents: 500.

Frequency of Response: 1.

Average Burden per Response: 60 minutes.

Estimated Annual Burden: 500 hours.

CE Reporting

Number of Respondents: 300.

Frequency of Response: 1.

Average Burden per Response: 30 minutes.

Estimated Annual Burden: 150 hours.

Annual Reaffirmations Worksheet

Number of Respondents: 450.

Frequency of Response: 1.

Average Burden per Response: 10 minutes.

Estimated Annual Burden: 75 hours.

Total burden hours for all collection activities—725 hours.

Dated: December 27, 2006.
Elizabeth A. Davidson,
Reports Clearance Officer, Social Security Administration.

[FR Doc. E6-22528 Filed 1-3-07; 8:45 am]

BILLING CODE 4191-02-P